FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 18, 2012.

A. Federal Reserve Bank of Minneapolis (Jacqueline G. King, Community Affairs Officer) 90 Hennepin Avenue, Minneapolis, Minnesota 55480-0291:

1. Gladys E. Youse Trust and Madolyn Y. Babcock both of Minneapolis, Minnesota, to acquire additional shares of Metro North Bancshares, Inc. and thereby indirectly acquire control of The Bank of Elk River, both of Elk River, Minnesota. Additionally, The Gladys E. Youse Trust, and its trustee, Madolyn Y. Babcock, propose to join the Babcock family shareholder group, which controls 25% or more of Metro North Bancshares, Inc.

Board of Governors of the Federal Reserve System, December 28, 2011.
Robert deV. Frierson,
Deputy Secretary of the Board.

[FR Doc. 2011-33697 Filed 1-3-12; 8:45 am]

BILLING CODE 6210-01-P